DEPARTMENT OF EDUCATION

[Docket No.: ED-2023-SCC-0128]

Agency Information Collection Activities; Comment Request; Teacher Education Assistance for College and Higher Education Grant Program (TEACH Grant) Agreement To Serve or Repay

AGENCY: Federal Student Aid (FSA), Department of Education (ED).

ACTION: Notice.

SUMMARY: In accordance with the Paperwork Reduction Act (PRA) of 1995, the Department is proposing an extension without change of a currently approved information collection request (ICR).

DATES: Interested persons are invited to submit comments on or before September 11, 2023.

ADDRESSES: To access and review all the documents related to the information collection listed in this notice, please use http://www.regulations.gov by searching the Docket ID number ED-2023-SCC-0128. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Beth Grebeldinger, (202) 377-4018.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Teacher Education Assistance for College and Higher Education Grant Program (TEACH Grant) Agreement to Serve or Repay.

OMB Control Number: 1845-0083.

Type of Review: Extension without change of a currently approved ICR.

Respondents/Affected Public: Individuals or Households.

Total Estimated Number of Annual Responses: 50,793.

Total Estimated Number of Annual Burden Hours: 25,397.

Abstract: The U.S. Department of Education is requesting a revision of the TEACH Grant Agreement currently approved under OMB No. 1845-0083. The Consider Teachers Act of 2021 (Pub. L. 117-49) made certain changes to the provisions governing the TEACH Grant Program in section 420N of the HEA, one of which was to replace the previous requirement for a TEACH Grant recipient to comply with the requirements for being a highly qualified teacher as defined in section 9101 of the Elementary and Secondary Education Act of 1965 with a requirement for the recipient to meet all state certification requirements for teaching (which may include meeting such requirements through certification obtained through alternative routes to teaching). To reflect this statutory change, we have modified the Agreement by replacing all references to the highly qualified teacher requirement with the new requirement and removing the definition of “highly qualified teacher.” We have also updated the section of the Agreement that describes the terms and conditions of Direct Unsubsidized Loans to reflect certain changes to the Direct Loan Program regulations that were made by a final rule published in the Federal Register on November 1, 2022 (87 FR 65904). In addition to making these updates to reflect statutory and regulatory changes, we have made minor, non-substantive wording changes in several places throughout the Agreement for greater clarity.

Dated: July 5, 2023.
Kun Mullan,
PRA Coordinator, Strategic Collections and Clearance, Governance and Strategy Division, Office of Chief Data Officer, Office of Planning, Evaluation and Policy Development.

[FR Doc. 2023-14521 Filed 7-10-23; 8:45 am]

BILLING CODE 4000-01-P